NATIONAL ARCHIVES AND RECORDS ADMINISTRATION

Information Security Oversight Office

32 CFR Part 2001

[Directive No. 1; Appendix A]

RIN 3095-AA92

Information Security Oversight Office; Classified National Security Information; Correction

AGENCY: Information Security Oversight Office (ISOO), National Archives and Records Administration (NARA).

ACTION: Final rule; correction.

SUMMARY: The Information Security Oversight Office, NARA, published in the Federal Register of September 13, 1999, a final rule establishing a uniform referral standard that Federal agencies must use for multi-agency declassification issues. Inadvertently, we omitted the term and definition of “Equity.” This document provides the missing text.

DATES: Effective on October 13, 1999.

FOR FURTHER INFORMATION CONTACT: Steven Garfinkel, Director, ISOO. Telephone: 202-219-5250.

SUPPLEMENTARY INFORMATION: ISOO published a final rule document in the Federal Register of September 13, 1999, (64 FR 49388) adding a new § 2001.55 to Subpart E. The term and definition of “Equity” was inadvertently dropped from the text of the rule. This correction provides the definition for “Equity.”

In the document FR 99-23800 published on September 13, 1999, (99 FR 49388) make the following correction.

On page 49389, in the second column, in § 2001.55, paragraph (d), add the definition of “Equity” in alphabetical order to read as follows:

§ 2001.55 Document referral.

* * * * *

(d) * * *

“Equity means information originally classifed by or under the control of an agency, as control is defined in section 1.1(b) of E.O. 12958.”

* * * * *

Dated: March 22, 2000.
John W. Carlin,
Archivist of the United States.

[FR Doc. 00-7604 Filed 3-27-00; 8:45 am]

BILLING CODE 7515-01-P